DEPARTMENT OF COMMERCE

International Trade Administration

[A-583-803]

Light-Walled Welded Rectangular Carbon Steel Tubing From Taiwan: Rescission of Antidumping Duty Administrative Review; 2022-2023

AGENCY: Enforcement and Compliance, International Trade Administration, Department of Commerce.

SUMMARY: The U.S. Department of Commerce (Commerce) is rescinding the administrative review of the antidumping duty (AD) order on light-walled welded rectangular carbon steel tubing (LWRT) from Taiwan for the period of review (POR) March 1, 2022, through February 28, 2023.

DATES: Applicable December 1, 2023.

FOR FURTHER INFORMATION CONTACT: Thomas Schauer, AD/CVD Operations, Office I, Enforcement and Compliance, International Trade Administration, U.S. Department of Commerce, 1401 Constitution Avenue NW, Washington, DC 20230; telephone: (202) 482-0410.

SUPPLEMENTARY INFORMATION:

Background

On March 27, 1989, Commerce published in the Federal Register an AD order on LWRT from Taiwan.¹ On March 2, 2023, we published in the Federal Register a notice of opportunity to request an administrative review of the Order.² On May 9, 2023, based on a timely request for an administrative review, Commerce initiated this administrative review with respect to one company, Hoa Phat Steel Pipe Company Limited (Hoa Phat).³

¹ See Antidumping Duty Order; Light-Walled Welded Rectangular Carbon Steel Tubing From Taiwan, 54 FR 12467 (March 27, 1989) (Order).

² See Antidumping or Countervailing Duty Order, Finding, or Suspended Investigation; Opportunity To Request Administrative Review and Join Annual Inquiry Service List, 88 FR 13091 (March 2, 2023).

³ See Initiation of Antidumping and Countervailing Duty Administrative Reviews, 88 FR 29881, 29884 (May 9, 2023).

On May 17, 2023, we placed on the record U.S. Customs and Border Protection (CBP) data for entries of LWRT from Taiwan during the POR, showing no suspended entries, and invited interested parties to comment on the CBP data.⁴ No interested party submitted comments to Commerce. On June 8, 2023, Hoa Phat submitted a certification that it had no exports, sales, or entries during the POR.⁵

⁴ See Memorandum, “U.S. Customs and Border Protection Data Release,” dated May 17, 2023.

⁵ See Hoa Phat's Letter, “Notice of No Sale,” dated June 8, 2023.

On October 2, 2023, Commerce notified all interested parties of its intent to rescind the review in full because there were no suspended entries by any of the companies subject to this review during the POR and invited interested parties to comment on Commerce's intent to rescind.⁶ On October 10, 2023, Hoa Phat submitted comments regarding Commerce's intent to rescind the review.⁷ No other interested parties commented on the Intend to Rescind Memorandum.

⁶ See Memorandum, “Intent to Rescind Review,” dated October 2, 2023.

⁷ See Hoa Phat's Letter, “Comment on Intent to Rescind the Review,” dated October 10, 2023.

Interested-Party Comment

Hoa Phat argues that Commerce should grant Hoa Phat the right to properly certify the origin of the hot-rolled steel used to produce the LWRT exported to the United States during the POR for both past and future entries.⁸ Hoa Phat contends that it requested an administrative review here so that Commerce could determine whether any of Hoa Phat's exports were, in fact, subject to the Order, and to reconsider Hoa Phat's eligibility for the hot-rolled steel certification process.⁹ According to Hoa Phat, Commerce has previously explained that an administrative review is its preferred mechanism for reconsidering certification eligibility.¹⁰ Hoa Phat asserts that, for Commerce to have expressed a preferred path for reconsideration of certification eligibility but then to deny that mechanism for reconsideration to Hoa Phat would be inconsistent with its stated practice and an abuse of discretion.¹¹

⁸ Id. at 1-2.

⁹ Id. at 2.

¹⁰ Id. at 3-4 (citing, e.g., Antidumping and Countervailing Duty Orders on Crystalline Silicon Photovoltaic Cells, Whether or Not Assembled Into Modules, from the People's Republic of China: Final Scope Determination and Final Affirmative Determinations of Circumvention With Respect to Cambodia, Malaysia, Thailand, and Vietnam, 88 FR 57419 (August 23, 2023), and accompanying Vietnam Issues and Decision Memorandum (IDM) at Comment 19; and Certain Hardwood Plywood Products from the People's Republic of China: Final Scope Determination and Affirmative Final Determination of Circumvention of the Antidumping and Countervailing Duty Orders, 88 FR 46470 (July 20, 2023), and accompanying IDM at Comment 13, Subsection, “Reconsidering Certification Eligibility”).

¹¹ Id. at 4.

We disagree with Hoa Phat. In LWRT Tubing Circumvention Final, we stated that, “{b}ecause entries of LWR tubing produced or exported by Hoa Phat currently must be entered as subject to the cash deposit rates established under the LWRPT China Orders pursuant to Commerce's {preliminary determination}, Hoa Phat, or any other interested party with standing to request a review of Hoa Phat's entries may request an administrative review of its entries under the LWRPT China Orders.” ¹² Thus, the proper venue for Commerce to reconsider Hoa Phat's certification eligibility is in the context of administrative reviews of the LWRPT China Orders. In fact, Commerce initiated an administrative review of Hoa Phat on each of the LWRPT China Orders.¹³

¹² See Light-Walled Welded Rectangular Carbon Steel Tubing from Taiwan: Final Affirmative Determination of Circumvention of the Antidumping Duty Order, 88 FR 77274 (November 9, 2023) (LWRT Tubing Circumvention Final), and accompanying IDM at Comment 5 (citing Light-Walled Rectangular Pipe and Tube from Mexico, the People's Republic of China, and the Republic of Korea: Antidumping Duty Orders; Light-Walled Rectangular Pipe and Tube from the Republic of Korea: Notice of Amended Final Determination of Sales at Less than Fair Value, 73 FR 45403 (August 5, 2008); and Light-Walled Rectangular Pipe and Tube from the People's Republic of China: Notice of Countervailing Duty Order, 73 FR 45405 (August 5, 2008) (collectively, LWRPT China Orders)).

¹³ See Initiation of Antidumping and Countervailing Duty Administrative Reviews, 88 FR 71829, 71835, 71837 (October 18, 2023).

Accordingly, we are rescinding this review because there are no suspended entries during the POR for any of the companies for which this review has been initiated. Further, Hoa Phat's opportunity to request that Commerce reconsider its eligibility to certify the origin of the hot-rolled steel which it used to produce LWRPT, as provided for in the LWRT Tubing Circumvention Final, has not been abrogated, and Hoa Phat's eligibility to certify will be determined in the context of the LWRPT China Orders administrative reviews.

Rescission of Review

Pursuant to 19 CFR 351.213(d)(3), it is Commerce's practice to rescind an administrative review of an AD order when there are no suspended entries during the POR for the companies for which the review was initiated.¹⁴ Normally, upon completion of an administrative review, the suspended entries are liquidated at the AD assessment rate calculated for the review period.¹⁵ Therefore, for an administrative review to be conducted, there must be at least one suspended entry for which Commerce can instruct CBP to liquidate at the AD assessment rate calculated for the review period.¹⁶ As noted above, there were no suspended entries for any of the companies subject to this review during the POR. Accordingly, in the absence of suspended entries during the POR, we are hereby rescinding this administrative review, in its entirety, in accordance with 19 CFR 351.213(d)(3).

¹⁴ See, e.g., Dioctyl Terephthalate from the Republic of Korea: Rescission of Antidumping Administrative Review; 2021-2022, 88 FR 24758 (April 24, 2023); see also Certain Carbon and Alloy Steel Cut- to Length Plate from the Federal Republic of Germany: Recission of Antidumping Administrative Review; 2020-2021, 88 FR 4157 (January 24, 2023).

¹⁵ See 19 CFR 351.212(b)(1).

¹⁶ See 19 CFR 351.213(d)(3).

Assessment

Commerce will instruct CBP to assess antidumping duties on all appropriate entries. Antidumping duties shall be assessed at rates equal to the cash deposit rate of estimated antidumping duties required at the time of entry, or withdrawal from warehouse, for consumption, in accordance with 19 CFR 351.212(c)(1)(i). Commerce intends to issue assessment instructions to CBP no earlier than 35 days after the date of publication of this rescission notice in the Federal Register.

Notification Regarding Administrative Protective Order

This notice serves as the only reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a violation subject to sanction.

Notification to Interested Parties

This notice is issued and published in accordance with sections 751(a)(1) and 777(i)(1) of the Act, and 19 CFR 351.213(d)(4).

Dated: November 28, 2023.
James Maeder,
Deputy Assistant Secretary for Antidumping and Countervailing Duty Operations.

[FR Doc. 2023-26471 Filed 11-30-23; 8:45 am]

BILLING CODE 3510-DS-P